DEPARTMENT OF DEFENSE

Office of the Secretary

Defense Advisory Committee for Strategic Environmental Research and Development Program (SERDP) Scientific Advisory Board (SAB); Notice of Federal Advisory Committee Meeting

AGENCY: Under Secretary of Defense for Acquisition and Sustainment (USD(A&S)), Department of Defense (DoD).

ACTION: Notice of Federal Advisory Committee meeting.

SUMMARY: The DoD is publishing this notice to announce that the following Federal Advisory Committee meeting of the SERDP SAB will take place.

DATES: SERDP SAB will hold a meeting open to the public. Day 1—Tuesday, September 19, 2023 from 9 a.m. to 4:10 p.m. (EST). Day 2—Wednesday, September 20, 2023 from 9 a.m. to 3:50 p.m. (EST). Day 3—Thursday, September 21, 2023 from 9 a.m. to 1:45 p.m. (EST).

ADDRESSES: The meeting will be accessible in person or by videoconference. The in-person meeting will be held at 500 L'Enfant Plaza SW, Suite 900, Washington, DC 20024. Information for accessing the videoconference is provided in SUPPLEMENTARY INFORMATION, “Meeting Accessibility”.

FOR FURTHER INFORMATION CONTACT: Dr. Kimberly Spangler, 571-372-6565 (voice), kimberly.y.spangler.civ@mail.mil (email). Mailing address is SERDP Office, 4800 Mark Center Drive, Suite 16F16, Alexandria, VA 22350-3605. Website: https://serdp-estcp.org/about. The most up-to-date changes to the meeting agenda can be found on the website.

SUPPLEMENTARY INFORMATION: Due to circumstances beyond the control of the Designated Federal Officer, the Strategic Environmental Research and Development Program Scientific Advisory Board was unable to provide public notification required by 41 CFR 102-3.150(a) concerning its September 19-21, 2023 meeting. Accordingly, the Advisory Committee Management Officer for the Department of Defense, pursuant to 41 CFR 102-3.150(b), waives the 15-calendar day notification requirement.

This meeting is being held under the provisions of chapter 10 of title 5 United States Code (U.S.C.) (commonly known as the “Federal Advisory Committee Act (FACA)”), 5 U.S.C. 552b (commonly known as the “Government in the Sunshine Act”), and 41 CFR 102-3.140 and 102-3.150. Accordingly, the Advisory Committee Management Officer for the Department of Defense, pursuant to 41 CFR 102-3.150(b), waives the 15-calendar day notification requirement.

Availability of Materials for the Meeting: Additional information, including the agenda or any updates to the agenda, is available on https://serdp-estcp.org/about.

Purpose of the Meeting: The purpose of the meeting is for the SERDP SAB to review new start research and development projects requesting Strategic Environmental Research and Development Program funds as required by the SERDP Statute, U.S. Code—Title 10, Subtitle A, Part IV, Chapter 172, 2904.

Agenda: Tuesday, September 19, 2023, from 9 a.m. to 4:10 p.m.—Welcome, Introductions, Program Overview Briefings, Project Briefings and Voting on Fiscal Year 2024 Recommendations, and Public Comment Period.

Wednesday, September 20, 2023, from 9 a.m. to 3:50 p.m.—Welcome, Project Briefings and Voting on Fiscal Year 2024 Recommendations, and Public Comment Period.

Thursday, September 21, 2023, from 9 a.m. to 1:45 p.m.—Welcome, Project Briefings and Voting on Fiscal Year 2024 Recommendations, and Public Comment Period.

Meeting Accessibility: Pursuant to 5 U.S.C. 552b and 41 CFR 102-3.140 through 102-3.165, this meeting is open to the public. The meeting will be held in person and via videoconference. The in-person meeting will be held at 500 L'Enfant Plaza SW, Suite 900, Washington, DC 20024. If you attend in person, you are required to bring photo identification. If you wish to attend by videoconference, you must register at this link: https://www.zoomgov.com/meeting/register/vJIsdu2hqTIoHzPOyGGtXJoUg6vlLhw353c. Once registered, the web address and audio number will be provided. For purposes of transparency and attendance reporting you will be required to use your actual first name and last name as your username.

Special Accommodations: Individuals requiring special accommodations to access the public meeting should contact Dr. Kimberly Spangler at (571) 372-6565 (voice) no later than Friday, September 15, 2023 (by 5:00 p.m. EST) so that appropriate arrangements can be made.

Written Statements: Pursuant to 41 CFR 102-3.140 and 5 U.S.C. 1009(a)(3), interested persons may submit a written statement to the SERDP SAB. Individuals submitting a statement must submit their statement no later than 5 p.m. EST, Friday, September 15, 2023 to kimberly.y.spangler.civ@mail.mil (email) or to (571) 372-6565 (voice). If a statement pertaining to a specific topic being discussed at the planned meeting is not received by Friday, September 15, 2023, prior to the meeting, then it may not be provided to, or considered by, the Committee during the September 19-21, 2023 meeting. The Designated Federal Officer, Dr. Kimberly Spangler, will review all timely submissions with the SERDP SAB Chair and ensure such submissions are provided to the members of the SERDP SAB before the meeting.

Dated: August 30, 2023.
Aaron T. Siegel,
Alternate OSD Federal Register Liaison Officer, Department of Defense.

[FR Doc. 2023-19290 Filed 9-6-23; 8:45 am]

BILLING CODE 5001-06-P